DEPARTMENT OF COMMERCE

National Telecommunications and Information Administration

[Docket No. 060519136-6136-01]

The Continued Transition of the Technical Coordination and Management of the Internet Domain Name and Addressing System

AGENCY: National Telecommunications and Information Administration, U.S. Department of Commerce

ACTION: Notice of Inquiry, Notice of Public Meeting

SUMMARY: The United States Department of Commerce's National Telecommunications and Information Administration (NTIA) seeks comment on the continuation of the transition of the technical coordination and management of the Internet domain name and addressing system (Internet DNS) to the private sector. In June 1998, the Department issued a statement of policy on the privatization of the Internet DNS, which among other things articulated four primary functions for global Internet DNS coordination and management, the need to have these functions performed by the private sector and four principles to guide the transition to private sector management of the Internet DNS. On June 30, 2005, NTIA released the U.S. Principles on the Internet's Domain Name and Addressing System further elaborating on these issues. The Department of Commerce seeks comment regarding the progress of this transition and announces a public meeting to be held on July 26, 2006, to discuss issues associated with this transition.

DATES: Comments are due on or before July 7, 2006. The public meeting will be held from 2 p.m. to 5 p.m. on July 26, 2006.

ADDRESSES: Written comments may be submitted by U.S. mail to Fiona Alexander, Office of International Affairs, National Telecommunications and Information Administration, 1401 Constitution Avenue, NW., Room 4701, Washington, DC 20230. Paper submissions should include a three and one-half inch computer diskette in HTML, ASCII, Word or WordPerfect format (please specify version). Diskettes should be labeled with the name and organizational affiliation of the filer, and the name of the word processing program used to create the document. Alternatively, comments may be submitted electronically to DNSTransition@ntia.doc.gov. Comments provided via electronic mail should also be submitted in one of the formats specified above. All comments will be posted to NTIA's Web site at http://www.ntia.doc.gov/ntiahome/domainname/dnstransition.html. The public meeting will be held at the U.S. Department of Commerce, 1401 Constitution Avenue, NW., Auditorium, Washington, DC (Entrance to the Department of Commerce is on 14th Street between Constitution and Pennsylvania Avenues, NW.).

FOR FURTHER INFORMATION CONTACT: For questions about this Notice or the Public Meeting, contact: Fiona Alexander, National Telecommunications and Information Administration, U.S. Department of Commerce, 1401 Constitution Avenue, NW., Room 4701, Washington, DC 20230; telephone: (202) 482-1866; or e-mail: falexander@ntia.doc.gov. Please direct media inquiries to the Office of Public Affairs, NTIA, at (202) 482-7002.

SUPPLEMENTARY INFORMATION: Background: A July 1, 1997, Executive Memorandum directed the Secretary of Commerce to privatize the Internet domain name and addressing system (Internet DNS) in a manner that increases competition and facilitates international participation in its management.¹ In order to fulfill this Presidential directive, the Department of Commerce, in June 1998, issued a statement of policy on the privatization of the Internet DNS, known as the DNS White Paper.² This document articulated four primary functions for global Internet DNS coordination and management:

¹ Memorandum on Electronic Commerce, 2 Pub. Papers 898 (July 1, 1997).

² Management of Internet Names and Addresses, 63 Fed. Reg. 31,741 (June 10, 1998).

1. To set policy for and direct the allocation of IP number blocks;

2. To oversee the operation of the Internet root server system;

3. To oversee policy for determining the circumstances under which new top level domains (TLDs) would be added to the root server system; and

4. To coordinate the assignment of other technical protocol parameters as needed to maintain universal connectivity on the Internet.

In the DNS White Paper, the Department of Commerce concluded that these functions were relevant to the state of the Internet DNS and should be primarily performed through private sector management. To this end, the Department of Commerce stated that it was prepared to enter into agreement with a new not-for-profit corporation formed by private sector Internet stakeholders. Private sector interests formed the Internet Corporation for Assigned Names and Numbers (ICANN) for this purpose.³ In the fall of 1998, the Department of Commerce entered into a Memorandum of Understanding (MOU) with ICANN, a California non-profit corporation, to transition technical Internet DNS coordination and management functions to the private sector.⁴

³ For more information on the private sector proposals received see http://www.ntia.doc.gov/ntiahome/domainname/background.htm.

⁴ Memorandum of Understanding Between the U.S. Department of Commerce and the Internet Corporation for Assigned Names and Numbers (November 25, 1998), available at http://www.ntia.doc.gov/ntiahome/domainname/icann-memorandum.htm.

The MOU contains a series of core tasks for ICANN, which include establishing appropriate relationships with the organizations that form the technical underpinnings of the Internet DNS, as well as date-specific milestones designed to help ICANN reach full corporate maturity. It has been amended six times⁵, most recently in September 2003 and will expire on September 30, 2006.⁶

⁵ All MOU Amendments are available online at http://www.ntia.doc.gov/ntiahome/domainname/icann.htm.

⁶ Memorandum of Understanding Between U.S. Department of Commerce and the Internet Corporation for Assigned Names and Numbers, Amendment 6, available at http://www.ntia.doc.gov/ntiahome/domainname/agreements/amendment6_09162003.htm.

On June 30, 2005, NTIA released the U.S. Principles on the Internet's Domain Name and Addressing System, which provides in general: the United States Government intends to preserve the security and stability of the Internet DNS by maintaining its historic role in authorizing changes or modifications to the authoritative root zone file; governments have legitimate interest in the management of their country code top level domains (ccTLD); ICANN is the appropriate technical manager of the Internet DNS; and dialogue related to Internet governance should continue in relevant multiple fora.⁷

⁷ U.S. Department of Commerce, U.S. Principles on the Internet's Domain Name and Addressing System (June 30, 2005), http://www.ntia.doc.gov/ntiahome/domainname/usdnsprinciples_06302005.htm.

Request for Comment: Because the current MOU will expire on September 30, 2006, NTIA seeks comment on the progress to date of the transition of the technical coordination and management of the Internet DNS to the private sector.

The questions below are intended to assist in identifying the issues and should not be construed as a limitation on comments that may be submitted. When referencing, in your comments, any studies, research, and other empirical data that are not widely published, please provide copies of the referenced materials with the submitted comments.

1. The DNS White Paper articulated principles (i.e., stability; competition; private, bottom-up coordination; and representation) necessary for guiding the transition to private sector management of the Internet DNS. Are these principles still relevant? Should additional principles be considered in light of: The advance in Internet technology; the expanded global reach of the Internet; the experience gained over the eight years since the Department of Commerce issued the DNS White Paper; and the international dialogue, including the discussions related to Internet governance at the United Nations World Summit on the Information Society (WSIS)?

2. The DNS White Paper articulated a number of actions that should be taken in order for the U.S. Government to transition its Internet DNS technical coordination and management responsibilities to the private sector. These actions appear in the MOU as a series of core tasks and milestones. Has ICANN achieved sufficient progress in its tasks, as agreed in the MOU, for the transition to take place by September 30, 2006?

3. Are these core tasks and milestones still relevant to facilitate this transition and meet the goals outlined in the DNS White Paper and the U.S. Principles on the Internet's Domain Name and Addressing System? Should new or revised tasks/methods be considered in order for the transition to occur? And on what time frame and by what method should a transition occur?

4. The DNS White Paper listed several key stakeholder groups whose meaningful participation is necessary for effective technical coordination and management of the Internet DNS. Are all of these groups involved effectively in the ICANN process? If not, how could their involvement be improved? Are there key stakeholder groups not listed in the DNS White Paper, such as those with expertise in the area of Internet security or infrastructure technologies, that could provide valuable input into the technical coordination and management of the Internet DNS? If so, how could their involvement be facilitated?

5. The DNS White Paper listed principles and mechanisms for technical coordination and management of the Internet DNS to encourage meaningful participation and representation of key stakeholders. ICANN, in conjunction with many of these key stakeholders, has created various supporting organizations and committees to facilitate stakeholder participation in ICANN processes. Is participation in these organizations meeting the needs of key stakeholders and the Internet community? Are there ways to improve or expand participation in these organizations and committees?

6. What methods and/or processes should be considered to encourage greater efficiency and responsiveness to governments and ccTLD managers in processing root management requests to address public policy and sovereignty concerns? Please keep in mind the need to preserve the security and stability of the Internet DNS and the goal of decision-making at the local level. Are there new technology tools available that could improve this process, such as automation of request processing?

7. Many public and private organizations have various roles and responsibilities related to the Internet DNS, and more broadly, to Internet governance. How can information exchange, collaboration and enhanced cooperation among these organizations be achieved as called for by the WSIS?⁸

⁸ See, e.g., World Summit on the Information Society, Tunis Agenda for the Information Society (November 18, 2005), WSIS-05/TUNIS/DOC/6(Rev. 1)-E, available at http://www.itu.int/wsis/docs2/tunis/off/6rev1.html.

Public Meeting: NTIA announces a public meeting to be held on July 26, 2006, to discuss issues associated with this transition. The agenda for the meeting will be posted on NTIA's Web site, http://www.ntia.doc.gov, one week prior to the meeting.

The meeting will be open to the public and press on a first-come, first-served basis. Space is limited. Due to security requirements and to facilitate entry to the Department of Commerce building, anyone wishing to attend must contact Tanika Hawkins at (202) 482-1866 or thawkins@ntia.doc.gov at least five (5) days prior to the meeting in order to provide the necessary clearance information. When arriving for the meeting, attendees must present photo or passport identification and/or a U.S. Government building pass, if applicable, and should arrive at least one-half hour prior to the start time of the meeting. The public meeting is physically accessible to people with disabilities. Individuals requiring special services, such as sign language interpretation or other ancillary aids are asked to indicate this to Ms. Hawkins.

Dated: May 22, 2006.
Kathy D. Smith,
Chief Counsel, National Telecommunications and Information Administration.

[FR Doc. E6-8077 Filed 5-25-06; 8:45 am]

BILLING CODE 3510-60-S